DEPARTMENT OF ENERGY

Federal Energy Regulatory Commission

Combined Notice of Filings #1

Take notice that the Commission received the following exempt wholesale generator filings:

Docket Numbers: EG19-51-000.

Applicants: Cedar River Transmission, LLC.

Description: Notice of Self-Certification of Exempt Wholesale Generator Status of Cedar River Transmission, LLC.

Filed Date: 1/24/19.

Accession Number: 20190124-5206.

Comments Due: 5 p.m. ET 2/14/19.

Take notice that the Commission received the following electric rate filings:

Docket Numbers: ER10-1585-015; ER10-1594-015; ER10-1617-015; ER10-1624-008; ER10-1626-010; ER10-1628-015; ER10-1632-017; ER12-60-017; ER16-1148-006; ER16-733-006.

Applicants: Alabama Electric Marketing, LLC, California Electric Marketing, LLC, LQA, LLC, New Mexico Electric Marketing, LLC, Tenaska Energía de Mexico, S. de R. L. de C.V., Tenaska Gateway Partners, Ltd., Tenaska Power Management, LLC, Tenaska Power Services Co., Tenaska Virginia Partners, L.P., Texas Electric Marketing, LLC.

Description: Notification of Change in Status of the Indicated Tenaska MBR Sellers.

Filed Date: 1/22/19.

Accession Number: 20190122-5326.

Comments Due: 5 p.m. ET 2/12/19.

Docket Numbers: ER10-2237-008; ER14-1818-017.

Applicants: Wildflower Energy LP, Boston Energy Trading and Marketing LLC.

Description: Notice of Non-Material Change in Status of the Indicated DGC Sellers.

Filed Date: 1/22/19.

Accession Number: 20190122-5320.

Comments Due: 5 p.m. ET 2/12/19.

Docket Numbers: ER10-3066-003; ER10-2309-004; ER10-3058-003; ER10-3059-003; ER10-3065-003.

Applicants: Edgewood Energy, LLC, Elwood Energy LLC, Equus Power I, L.P., Pinelawn Power, LLC, Shoreham Energy, LLC.

Description: Notice of Change in Status of the J-POWER North America Holdings Co., Ltd. Affiliates.

Filed Date: 1/22/19.

Accession Number: 20190122-5328.

Comments Due: 5 p.m. ET 2/12/19.

Docket Numbers: ER11-4052-002.

Applicants: Alpha Gas and Electric LLC.

Description: Notice of Change in Status of Alpha Gas and Electric LLC.

Filed Date: 1/22/19.

Accession Number: 20190122-5336.

Comments Due: 5 p.m. ET 2/12/19.

Docket Numbers: ER13-2409-008; ER11-4363-008; ER11-4498-012; ER11-4499-012; ER11-4501-014; ER12-2448-013; ER12-979-013; ER14-2858-007; ER15-2615-003; ER15-2620-003; ER16-2293-004; ER16-2577-003; ER16-2653-004; ER16-2687-002; ER17-2457-003; ER17-2470-003; ER17-790-001; ER18-2312-002; ER18-27-002.

Applicants: Buffalo Dunes Wind Project, LLC, Caney River Wind Project, LLC, Chisholm View Wind Project, LLC, Chisholm View Wind Project II, LLC, Cimarron Bend Wind Project I, LLC, Cimarron Bend Wind Project II, LLC, Drift Sand Wind Project, LLC, Enel Green Power Diamond Vista Wind Project, LLC, Goodwell Wind Project, LLC, Lindahl Wind Project, LLC, Little Elk Wind Project, LLC, Origin Wind Energy, LLC, Osage Wind, LLC, Red Dirt Wind Project, LLC, Rock Creek Wind Project, LLC, Rocky Ridge Wind Project, LLC, Smoky Hills Wind Farm, LLC, Smoky Hills Wind Project II, LLC, Thunder Ranch Wind Project, LLC.

Description: Notice of Non-Material Change in Status of Buffalo Dunes Wind Project, LLC, et. al.

Filed Date: 1/22/19.

Accession Number: 20190122-5338.

Comments Due: 5 p.m. ET 2/12/19.

Docket Numbers: ER18-1189-001; ER18-1188-002.

Applicants: Meadow Lake Wind Farm VI LLC, Prairie Queen Wind Farm LLC.

Description: Notice of Non-Material Change in Status of Meadow Lake Wind Farm VI LLC, et al.

Filed Date: 1/22/19.

Accession Number: 20190122-5324.

Comments Due: 5 p.m. ET 2/12/19.

Docket Numbers: ER18-1777-003; ER10-1342-005.

Applicants: Meadowlark Wind I LLC, CP Energy Marketing (US) Inc.

Description: Notice of Change in Status of Meadowlark Wind I LLC, et al.

Filed Date: 1/22/19.

Accession Number: 20190122-5322.

Comments Due: 5 p.m. ET 2/12/19.

Docket Numbers: ER18-1935-001.

Applicants: Alabama Power Company.

Description: Compliance filing: Gulf NITSA Compliance Filing to be effective 1/1/2019.

Filed Date: 1/25/19.

Accession Number: 20190125-5077.

Comments Due: 5 p.m. ET 2/15/19.

Docket Numbers: ER18-1936-001.

Applicants: Alabama Power Company.

Description: Compliance filing: Gulf PTP Agreements (Daniel 1&2 and Scherer 3) Compliance Filing to be effective 1/1/2019.

Filed Date: 1/25/19.

Accession Number: 20190125-5078.

Comments Due: 5 p.m. ET 2/15/19.

Docket Numbers: ER18-1937-001.

Applicants: Alabama Power Company.

Description: Compliance filing: Gulf PTP Agreements (Kingfisher I and II) Compliance Filing to be effective 1/1/2019.

Filed Date: 1/25/19.

Accession Number: 20190125-5079.

Comments Due: 5 p.m. ET 2/15/19.

Docket Numbers: ER18-2330-001.

Applicants: Enel Green Power Rattlesnake Creek Wind Project, LLC.

Description: Notice of Non-Material Change in Status of Enel Green Power Rattlesnake Creek Wind Project, LLC.

Filed Date: 1/22/19.

Accession Number: 20190122-5333.

Comments Due: 5 p.m. ET 2/12/19.

Docket Numbers: ER19-263-001.

Applicants: AMP Transmission, LLC, PJM Interconnection, L.L.C.

Description: Tariff Amendment: AMPT submits its response to the Commission's 12/26/2018 Deficiency Letter to be effective 1/1/2019.

Filed Date: 1/25/19.

Accession Number: 20190125-5107.

Comments Due: 5 p.m. ET 2/15/19.

Docket Numbers: ER19-419-001.

Applicants: Midcontinent Independent System Operator, Inc., ALLETE, Inc.

Description: Tariff Amendment: 2019-01-25_SA 3217 MP-GRE ICA Substitute (Verndale) to be effective 11/30/2018.

Filed Date: 1/25/19.

Accession Number: 20190125-5057.

Comments Due: 5 p.m. ET 2/15/19.

Docket Numbers: ER19-868-000.

Applicants: Pacific Gas and Electric Company.

Description: § 205(d) Rate Filing: Amendment (Supp. No. 4) to Peninsula Corridor JPB Supplement No. 3 (RS 249) to be effective 2/1/2019.

Filed Date: 1/25/19.

Accession Number: 20190125-5000.

Comments Due: 5 p.m. ET 2/15/19.

Docket Numbers: ER19-869-000.

Applicants: Southwest Power Pool, Inc.

Description: § 205(d) Rate Filing: 2824R5 KMEA & Sunflower Meter Agent Agreement to be effective 1/1/2019.

Filed Date: 1/25/19.

Accession Number: 20190125-5005.

Comments Due: 5 p.m. ET 2/15/19.

Docket Numbers: ER19-870-000.

Applicants: Southwest Power Pool, Inc.

Description: § 205(d) Rate Filing: Westar Energy Formula Rate Revisions to Modify Depreciation Rates to be effective 1/1/2019.

Filed Date: 1/25/19.

Accession Number: 20190125-5063.

Comments Due: 5 p.m. ET 2/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2019.
Nathaniel J. Davis, Sr.,
Deputy Secretary.

[FR Doc. 2019-00528 Filed 1-30-19; 8:45 am]

BILLING CODE 6717-01-P